DEPARTMENT OF HEALTH AND HUMAN SERVICES

Health Resources and Services Administration

Agency Information Collection Activities: Submission to OMB for Review and Approval: Public Comment Request; Information Collection Request Title: Federal Tort Claims Act (FTCA) Program Deeming Applications for Health Center Volunteer Health Professionals, OMB No. 0906-XXXX, New

AGENCY: Health Resources and Services Administration (HRSA), Department of Health and Human Services (HHS).

ACTION: Notice.

SUMMARY: In compliance with the requirement for opportunity for public comment on proposed data collection projects of the Paperwork Reduction Act of 1995, HRSA announces plans to submit an Information Collection Request (ICR), described below, to the Office of Management and Budget (OMB). Prior to submitting the ICR to OMB, HRSA seeks comments from the public regarding the burden estimate, below, or any other aspect of the ICR.

DATES: Comments on this ICR must be received no later than September 25, 2017.

ADDRESSES: Submit your comments, including the ICR Title, to the desk officer for HRSA, either by email to OIRA_submission@omb.eop.gov or by fax to 202-395-5806.

FOR FURTHER INFORMATION CONTACT: To request a copy of the clearance requests submitted to OMB for review, email the HRSA Information Collection Clearance Officer at paperwork@hrsa.gov or call (301) 443-1984.

SUPPLEMENTARY INFORMATION: When submitting comments or requesting information, please include the information request collection title for reference, in compliance with Section 3506(c)(2)(A) of the Paperwork Reduction Act of 1995.

Information Collection Request Title: Federal Tort Claims Act (FTCA) Program Deeming Applications for Health Center Volunteer Health Professionals OMB No. 0906-XXXX—New.

Abstract: Section 224(q) of the Public Health Service (PHS) Act (42 U.S.C. 233(q)), as amended, authorizes the “deeming” of certain individuals as PHS employees for the purposes of receiving Federal Tort Claims Act (FTCA) coverage. Section 224(q) relates to volunteer health professionals (VHPs) of Health Center Program grantees that have been deemed as PHS employees. The Health Center FTCA Program is administered by HRSA's Bureau of Primary Health Care (BPHC). Sponsoring health centers are required by law to submit deeming applications in the specified form and manner on behalf of named individuals for review and approval, resulting in a “deeming determination” that includes associated FTCA coverage for these individuals.

Need and Proposed Use of the Information: Deeming applications must address certain specified criteria required by law in order for deeming determinations to be issued, and FTCA application forms are critical to BPHC's deeming determination process. These forms provide BPHC with the information essential for application evaluation and determination of whether an individual meets the requirements for deemed PHS employee status for the purposes of FTCA coverage. Because the 21st Century Cures Act extended FTCA coverage to VHPs, BPHC will add new FTCA application forms for use by health centers applying to sponsor volunteers to become volunteer health professionals with associated FTCA coverage for their activities within the scope of deemed employment on behalf of the health center.

Likely Respondents: Respondents include Health Center Program funds recipients seeking deemed PHS employee status on behalf of their sponsored individuals for purposes of FTCA coverage.

Burden Statement: Burden in this context means the time expended by persons to generate, maintain, retain, disclose or provide the information requested. This includes the time needed to review instructions; to develop, acquire, install and utilize technology and systems for the purpose of collecting, validating and verifying information, processing and maintaining information, and disclosing and providing information; to train personnel and to be able to respond to a collection of information; to search data sources; to complete and review the collection of information; and to transmit or otherwise disclose the information. The total annual burden hours estimated for this ICR are summarized in the table below.

Total Estimated Annualized Burden Hours:

Form name | Number of respondents | Number of responses per respondent | Total responses | Average burden per response (in hours) | Total burden hours
FTCA Health Center Volunteer Health Professional Program Application | 1375 | 3 | 4125 | 2 | 8250
Total | 1375 |  | 4125 |  | 8250

HRSA specifically requests comments on (1) the necessity and utility of the proposed information collection for the proper performance of the agency's functions, (2) the accuracy of the estimated burden, (3) ways to enhance the quality, utility, and clarity of the information to be collected, and (4) the use of automated collection techniques or other forms of information technology to minimize the information collection burden.

Amy McNulty,
Acting Director, Division of the Executive Secretariat.

[FR Doc. 2017-17926 Filed 8-23-17; 8:45 am]

BILLING CODE 4165-15-P